DEPARTMENT OF HEALTH AND HUMAN SERVICES

National Institutes of Health

Center for Scientific Review; Amended Notice of Meeting

Notice is hereby given of a change in the meeting of the Center for Scientific Review Special Emphasis Panel, April 14, 2020, 09:00 a.m. to April 14, 2020, 02:00 p.m., National Institutes of Health, Rockledge II, 6701 Rockledge Dr., Bethesda, MD 20892, which was published in the Federal Register on March 20, 2020, 85 FR 16105.

This notice is being amended to change the meeting format and time from a teleconference call, 11:00 a.m. to 2:00 p.m. to a virtual meeting, 9:00 a.m. to 2:00 p.m. The meeting is closed to the public.

Dated: March 31, 2020.
Miguelina Perez,
Program Analyst, Office of Federal Advisory Committee Policy.

[FR Doc. 2020-07066 Filed 4-3-20; 8:45 am]

BILLING CODE 4140-01-P